DEPARTMENT OF JUSTICE

Immigration and Naturalization Service

[INS No. 2136-01; AG Order No. 2426-2001]

RIN 1115—AE26

Extension of the Designation of Nicaragua Under the Temporary Protected Status Program

AGENCY: Immigration and Naturalization Service, Justice.

ACTION: Notice.

SUMMARY: The designation of Nicaragua under the Temporary Protected Status (TPS) will expire on July 5, 2001. This notice extends the Attorney General's designation of Nicaragua under the TPS program for 12 months until July 5, 2002, and sets forth procedures necessary for nationals of Nicaragua (or aliens having no nationality who last habitually resided in Nicaragua) with TPS to register for the additional 12-month period. Eligible nationals of Nicaragua (or aliens having no nationality who last habitually resided in Nicaragua) may re-register for TPS and an extension of employment authorization. Re-registration is limited to persons who registered during the initial registration period, which ended on August 20, 1999, or who registered after that date under the late initial registration provisions. Persons who are eligible for late initial registration may register for TPS during this extension. Nationals of Nicaragua (or aliens having no nationality who last habitually resided in Nicaragua) who are eligible for late initial registration may register for TPS during this extension.

EFFECTIVE DATES: The extension of the TPS designation for Nicaragua is effective July 5, 2001, and will remain in effect until July 5, 2002. The 90-day re-registration period begins May 8, 2001, and will remain in effect until August 6, 2001.

FOR FURTHER INFORMATION CONTACT: Rebecca K. Peters, Residence and Status Services Branch, Adjudications, Immigration and Naturalization Service, Room 3214, 425 I Street, NW., Washington, DC 20536, telephone (202) 514-4754.

SUPPLEMENTARY INFORMATION:

What Authority Does the Attorney General Have To Extend the Designation of Nicaragua Under the TPS Program?

Section 244(b)(3)(A) of the Immigration and Nationality Act (Act) states that at least 60 days before the end of an extension or a designation, the Attorney General must review conditions in the foreign state for which the designation is in effect. 8 U.S.C. 1254a(b)(3)(A). If the Attorney General does not determine that the foreign state no longer meets the conditions for designation, the period of designation is automatically extended for 6 months pursuant to section 224(b)(3)(C) of the Act, although the Attorney General may exercise his discretion to extend the designation for 12 or 18 months. 8 U.S.C. 1254a(b)(3)(C). With respect to Nicaragua, such an extension makes TPS available only to persons who have been continuously physically present since January 5, 1999, and have continuously resided in the United States since December 30, 1998.

Why Did the Attorney General Decide To Extend the TPS Designation for Nicaragua?

Since the date of the last extension of Nicaragua's TPS designation, the Departments of Justice and State have continued to review conditions in Nicaragua. Prior to making a decision, the Attorney General had consultations with the Department of State to determine whether conditions warranting the TPS designation continued to exist. Despite indications of progress in recovery efforts, the Attorney General determined that sufficient damage from Hurricane Mitch persists that makes Nicaragua temporarily unable to handle adequately the return of its nationals. 8 U.S.C. 1254a(b)(1)(B)(ii). For example, the United Nations Food and Agricultural Organization designated Nicaragua as one of only four countries in the Western Hemisphere experiencing a food emergency. In addition, recovery efforts continued to be hamstrung by the delayed delivery on international aid.

Why Did the Attorney General Extend the TPS Designation for a Period of 12 Months?

The Attorney General determined that a 12-month extension would afford Nicaragua a sufficient amount of time to substantially complete its recovery efforts. At the expiration of the current extension, Nicaragua will have been designated for TPS for a period of 30 months. During this period, Nicaragua will have made progress in recovering from the effects of Hurricane Mitch. Balancing the need for additional time for recovery efforts with the temporal nature of the TPS benefit, the Attorney General determined that a 12-month extension would provide Nicaragua sufficient time to complete its recovery efforts to the point that it can handle adequately the return of its nationals.

If I Currently Have TPS, How Do I Re-Register for an Extension?

If you have already been granted TPS through the Nicaragua TPS Program, your TPS will expire on July 5, 2001. Persons previously granted TPS under the Nicaragua program may apply for an extension by filing (1) a Form I-821, Application for Temporary Protected Status, without the fee, during the re-registration period that begins May 8, 2001 and ends August 6, 2001, and (2) a Form I-765, Application for Employment Authorization, and by submitting two identification photographs (1½″ × 1½″). To determine whether or not you must submit the one hundred dollar ($100) filing fee with the Form I-765, see the chart below.

If | Then
You are applying for employment authorization through July 5, 2002 | You must complete and file: (1) Form I-765, Application for Employment Authorization, with the fee ($100).
You already have employment authorization or do not require employment authorization | You must complete and file: (1) Form I-765, with no filing fee.
You are applying for employment authorization and are requesting a fee waiver | You must complete and file: (1) Fee waiver request and affidavit (and any other information) in accordance with 8 CFR 244.20, and (2) Form I-765 with no fee.

Where Should I Submit the Application for an Extension of TPS?

Nationals of Nicaragua (or aliens who have no nationality and who last habitually resided in Nicaragua) seeking to re-register for the extension of TPS must submit an application and accompanying materials to the INS service center that has jurisdiction over the applicant's place of residence.

When May I File for an Extension of TPS?

The 90-day re-registration period begins May 8, 2001, and will remain in effect until August 6, 2001.

May I Apply for an Extension of My Work Authorization if I Have Been Granted Employment Authorization on the Basis of My Pending I-821, and as of July 5, 2001, My Original Form I-821 Is Still Pending?

Yes, you may apply for an extension of your employment authorization. Follow the instructions for re-registration above.

How Does an Application for TPS Affect My Application for Asylum or Other Immigration Benefits?

An application for TPS does not affect an application for asylum or any other immigration benefit. A person who is otherwise eligible for TPS and has applied for, or plans to apply for, asylum, but who has not yet been granted asylum or withholding of removal, may also apply for TPS. Denial of an application for asylum or any other immigration benefit does not necessarily affect disposition of a separate TPS application, though grounds for denying one form of relief may serve as the basis for denying TPS, as well. For example, a person who has been convicted of a particularly serious crime is not eligible for asylum or TPS. 8 U.S.C. 1158(b)(2); 8 U.S.C. 1254a(c)(2)(B).

Does This Extension Allow Nationals of Nicaragua (or Aliens Having No Nationality Who Last Habitually Resided in Nicaragua) Who Entered the United States after December 30, 1998, to File for TPS?

No. This is a notice of an extension of the TPS designation for Nicaragua, not a notice of re-designation for Nicaragua for TPS. An extension of TPS does not change the required dates of continuous residence and continuous physical presence in the United States and does not expand TPS availability to include nationals of Nicaragua (or aliens having no nationality who last habitually resided in Nicaragua) who arrived in the United States after the required dates for continuous physical presence, January 5, 1999, and continuous residence, December 30, 1998.

Is Late Initial Registration Possible?

Yes. In addition to timely re-registration, late initial registration is possible for some persons from Nicaragua under 8 CFR 244.2(f)(2). To apply for late initial registration an applicant must:

(1) be a national of Nicaragua (or an alien who has no nationality and who last habitually resided in Nicaragua);

(2) have been continuously physically present in the United States since January 5, 1999;

(3) have continuously resided in the United States since December 30, 1998; and,

(4) be admissible as an immigrant, except as otherwise provided under section 244(c)(2)(A) of the Act, and not ineligible under section 244(c)(2)(B) of the Act.

Additionally, the applicant must be able to demonstrate that, during the registration period from January 5, 1999, through July 5, 2000, he or she:

(1) was a nonimmigrant or had been granted voluntary departure status or any relief from removal,

(2) had an application for change of status, adjustment of status, asylum, voluntary departure, or any relief from removal pending or subject to further review or appeal,

(3) was a parolee or had a pending request for reparole, or

(4) was the spouse or child of an alien currently eligible to be a TPS registrant. 8 CFR 244.2(f)(2).

An applicant for late initial registration must register no later than sixty (60) days from the expiration or termination of the conditions described above. 8 CFR 244.2(g).

Notice of Extension of Designation of Nicaragua Under the TPS Program

By the authority vested in me as Attorney General under sections 244(b)(1), (b)(3)(A), and (b)(3)(C) of the Act, I have consulted with the appropriate Government agencies concerning whether the conditions under which Nicaragua was designated for TPS continue to exist. As a result, I determine that the conditions for designation of TPS for Nicaragua continue to be met, specifically that the damage from Hurricane Mitch persists and Nicaragua remains temporarily unable to handle adequately the return of its nationals. 8 U.S.C. 1254a(b)(3)(A).

Accordingly, I order as follows:

(1) The designation of Nicaragua under section 244(b) of the Act is extended for an additional 12-month period from July 5, 2001, to July 5, 2002. 8 U.S.C. 1254a(b)(3)(C).

(2) I estimate that there are approximately 5,300 nationals of Nicaragua (or aliens who have no nationality and who last habitually resided in Nicaragua) who have been granted TPS and who are eligible for re-registration.

(3) In order to be eligible for TPS during the period from July 5, 2001, to July 5, 2002, a national of Nicaragua (or an alien who has no nationality and who last habitually resided in Nicaragua) who has already received a grant of TPS under the Nicaragua TPS designation or who is eligible to file under the late filing provision of 8 CFR 244.2(f)(2) must register for TPS by filing a new Application for Temporary Protected Status, Form I-821, along with an Application for Employment Authorization, Form I-765, within the 90-day period beginning on May 8, 2001 and ending on August 6, 2001. Failure to register without good cause will result in the withdrawal of TPS. 8 CFR 244.17(c).

(4) At least 60 days before this extension terminates on July 5, 2002, the Attorney General will review the designation of Nicaragua under the TPS program and determine whether the conditions for designation continue to be met. 8 U.S.C. 1254a(b)(3)(A). Notice of that determination, including the basis for the determination, will be published in the Federal Register. 8 U.S.C. 1254a(b)(3)(A).

(5) Information concerning the Nicaraguan TPS program will be available at local Service offices upon publication of this notice and on the INS website at http://www.ins.usdoj.gov.

Dated: May 1, 2001.
John Aschroft,
Attorney General.

[FR Doc. 01-11537 Filed 5-7-01; 8:45 am]

BILLING CODE 4410-10-M